DEPARTMENT OF JUSTICE

Drug Enforcement Administration

[Docket No. DEA-722]

Bulk Manufacturer of Controlled Substances Application: Eli Elsohly Laboratories

AGENCY: Drug Enforcement Administration, Justice.

ACTION: Notice of application.

SUMMARY: Eli Elsohly Laboratories has applied to be registered as a bulk manufacturer of basic class(es) of controlled substance(s). Refer to Supplemental Information listed below for further drug information.

DATES: Registered bulk manufacturers of the affected basic class(es), and applicants therefore, may file written comments on or objections to the issuance of the proposed registration on or before December 7, 2020. Such persons may also file a written request for a hearing on the application on or before December 7, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 17, 2020, Eli Elsohly Laboratories, 5 Industrial Park Drive, Oxford, Mississippi 38655, applied to be registered as an bulk manufacturer of the following basic class(es) of controlled substance(s):

Controlled substances | Drug code | Schedule
Marihuana Extract | 7350 | I
Marihuana | 7360 | I
Tetrahydrocannabinols | 7370 | I
Dihydromorphone | 9145 | I
Amphetamine | 1100 | II
Methamphetamine | 1105 | II
Cocaine | 9041 | II
Codeine | 9050 | II
Dihydrocodeine | 9120 | II
Oxycodone | 9143 | II
Hydromorphone | 9150 | II
Ecgonine | 9180 | II
Hydrocodone | 9193 | II
Morphine | 9300 | II
Thebaine | 9333 | II
Oxymorphone | 9652 | II

The company plans to manufacture the listed controlled substances for product development and reference standards. In reference to drug codes 7360 (marihuana) and 7370 (THC), the company plans to isolate these controlled substances from procured 7350 (marihuana extract). In reference to drug code 7360, no cultivation activities are authorized for this registration. No other activities for these drug codes are authorized for this registration.

William T. McDermott,
Assistant Administrator.

[FR Doc. 2020-22068 Filed 10-5-20; 8:45 am]

BILLING CODE P